DEPARTMENT OF EDUCATION

President's Board of Advisors on Tribal Colleges and Universities

AGENCY: President's Board of Advisors on Tribal Colleges and Universities, Department of Education.

ACTION: Notice of an Open Meeting.

SUMMARY: This notice sets forth the schedule and agenda of the meeting of the President's Board of Advisors on Tribal Colleges and Universities. This notice also describes the functions of the Board. Notice of this meeting is required by section 10(a)(2) of the Federal Advisory Committee Act and is intended to notify the public of its opportunity to attend.

Dates and Times: Thursday, August 10, 2006 1 p.m.-5 p.m.; Friday, August 11, 2006 9 a.m.-12 p.m.

ADDRESSES: The Board will meet at the Radisson Hotel in Duluth, Minnesota, 505 W. Superior St., phone: 218-727-8981.

FOR FURTHER INFORMATION CONTACT: Deborah Cavett, Executive Director, White House Initiative on Tribal Colleges and Universities, 1990 K Street, NW., Room 7014, Washington, DC 20006; telephone: (202) 219-7040, fax: 202-219-7086.

SUPPLEMENTARY INFORMATION: The President's Board of Advisors on Tribal Colleges and Universities is established under Executive Order 13270, dated July 2, 2002, and Executive Order 13385 dated September 25, 2005. The Board is established (a) to report to the President annually on the results of the participation of tribal colleges and universities (TCUs) in Federal programs, including recommendations on how to increase the private sector role, including the role of private foundations, in strengthening these institutions, with particular emphasis also given to enhancing institutional planning and development, strengthening fiscal stability and financial management, and improving institutional infrastructure, including the use of technology, to ensure the long-term viability and enhancement of these institutions; (b) to advise the President and the Secretary of Education (Secretary) on the needs of TCUs in the areas of infrastructure, academic programs, and faculty and institutional development; (c) to advise the Secretary in the preparation of a Three-Year Federal plan for assistance to TCUs in increasing their capacity to participate in Federal programs; (d) to provide the President with an annual progress report on enhancing the capacity of TCUs to serve their students; and (e) to develop, in consultation with the Department of Education and other Federal agencies, a private sector strategy to assist TCUs.

Agenda: The purpose of the meeting is to update and enhance the Board's Action Agenda through a review of collaborative efforts and to discuss relevant issues to be addressed as the Board pursues opportunities to strengthen capacity of programs at the tribal colleges and universities.

Additional Information: Individuals who will need accommodations for a disability in order to attend the meeting (e.g., interpreting services, assistive listening devices, or material in alternative format) should notify Tonya Ewers at (202) 219-7040, no later than Friday, August 4, 2006. We will attempt to meet requests for accommodations after this date, but cannot guarantee their availability. The meeting site is accessible to individuals with disabilities.

An opportunity for public comment is available on Friday, August 11, 2006, between 11 a.m.-12 noon. Comments will be limited to ten (10) minutes for those speakers who sign up to speak. Those members of the public interested in submitting written comments may do so at the address indicated above by Friday, August 4, 2006.

Records are kept of all Board proceedings and are available for public inspection at the Office of the White House Initiative on Tribal Colleges and Universities, U.S. Department of Education, 1990 K Street, NW., Washington, DC 20006, during the hours of 8 a.m. to 5 p.m.

Dated: July 20, 2006.
James Manning,
Acting Assistant Secretary , Office of Post Secondary Education, U.S. Department of Education.

[FR Doc. E6-12013 Filed 7-26-06; 8:45 am]

BILLING CODE 4000-01-P